DEPARTMENT OF COMMERCE

Foreign-Trade Zones Board

Order No. 1558

Expansion of FTZ 44 and Expansion of Scope of Manufacturing, Mt. Olive, New Jersey

Pursuant to its authority under the Foreign-Trade Zones Act of June, 18, 1934, as amended (19 U.S.C. 81a-81u), the Foreign-Trade Zones Board (the Board) adopts the following Order:

Whereas, the New Jersey Commerce, Economic Growth & Tourism Commission, grantee of FTZ 44, submitted an application to the Board for authority to clarify the boundaries of Site 1 and to incorporate an additional 0.5 acres on a permanent basis, to delete two acres from Site 2, to include four additional sites in the Mt. Olive, New Jersey, area and to expand the scope of manufacturing authority for the flavor and fragrance processing facility of Givaudan Fragrances Corporation, located in Site 1 within FTZ 44 in Mt. Olive, New Jersey, area, adjacent to the Newark/New York CBP port of entry (FTZ Docket 25-2007, filed 7/20/07);

Whereas, notice inviting public comment was given in the Federal Register (72 FR 41704, 7/31/07) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 44 and to expand the scope of manufacturing authority for Givaudan Fragrances Corporation is approved, subject to the FTZ Act and the Board's regulations, including Section 400.28, and further subject to a sunset provision that would terminate authority on April 30, 2013, for Sites 3, 4, and 6 and April 30, 2015 for Site 5, where no activity has occurred under FTZ procedures before those dates. The Secretary of Commerce, as Chairman of the Board, is hereby authorized to issue an appropriate Board Order.

Signed at Washington, DC, this 28th day of April 2008.

David M. Spooner,
Assistant Secretary of Commerce for Import Administration, Alternate Chairman, Foreign-Trade Zones Board.
Attest:
Andrew McGilvray,
Executive Secretary.

[FR Doc. E8-9985 Filed 5-5-08; 8:45 am]

BILLING CODE 3510-DS-S